DEPARTMENT OF HOMELAND SECURITY

Office of the Secretary

[Docket No. DHS-2011-0085]

Privacy Act of 1974; Department of Homeland Security/U.S. Citizenship and Immigration Services-015 Electronic Immigration System-2 Account and Case Management System of Records

AGENCY: Privacy Office, DHS.

ACTION: Notice of Privacy Act system of records.

SUMMARY: In accordance with the Privacy Act of 1974, the Department of Homeland Security proposes to update and reissue Department of Homeland Security system of records titled, “Department of Homeland Security/U.S. Citizenship and Immigration Services-015 Electronic Immigration System-2 Account and Case Management System of Records.” This system of records will allow the Department of Homeland Security/U.S. Citizenship and Immigration Services to collect and maintain records on an individual after he or she submits a benefit request and/or updates account information to create or update U.S. Citizenship and Immigration Services Electronic Immigration System accounts; gather any missing information; manage workflow; assist U.S. Citizenship and Immigration Services in making a benefit determination; and provide a repository of data to assist with the efficient processing of future benefit requests. U.S. Citizenship and Immigration Services Electronic Immigration System-2 Account and Case Management will also be used to process and track all actions related to a particular case, including scheduling appointments and issuing decision notices and/or proofs of benefit. This system of records notice is being updated to reflect the incorporation of new forms, new categories of records, and clarified data retention to better inform the public. Additionally, the Department of Homeland Security is issuing a Final Rule elsewhere in the Federal Register, to exempt this system of records from certain provisions of the Privacy Act. This updated system will be included in the Department of Homeland Security's inventory of record systems.

DATES: Submit comments on or before December 15, 2011. This system will be effective December 15, 2011.

ADDRESSES: You may submit comments, identified by docket number DHS-2011- 0085 by one of the following methods:

• Federal e-Rulemaking Portal: http://www.regulations.gov. Follow the instructions for submitting comments.

• Fax: (703) 483-2999.

• Mail: Mary Ellen Callahan, Chief Privacy Officer, Privacy Office, Department of Homeland Security, Washington, DC 20528.

• Instructions: All submissions received must include the agency name and docket number for this rulemaking. All comments received will be posted without change to http://www.regulations.gov, including any personal information provided.

• Docket: For access to the docket to read background documents or comments received go to http://www.regulations.gov.

FOR FURTHER INFORMATION CONTACT: For general questions please contact: Donald K. Hawkins ((202) 272-8000), Privacy Officer, U.S. Citizenship and Immigration Services, 20 Massachusetts Avenue NW., Washington, DC 20529. For privacy issues please contact: Mary Ellen Callahan ((703) 235-0780), Chief Privacy Officer, Privacy Office, Department of Homeland Security, Washington, DC 20528.

SUPPLEMENTARY INFORMATION:

I. Background

In accordance with the Privacy Act of 1974, 5 U.S.C. 552a, the Department of Homeland Security (DHS) U.S. Citizenship and Immigration Services (USCIS) proposes to update and reissue the DHS system of records titled, “DHS/USCIS-015 Electronic Immigration System-2 Account and Case Management System of Records.” This system of records notice is being updated to reflect the incorporation of new forms and new categories of records, to clarify the data retention policy, and to recognize the issuance of a Final Rule exempting the system from portions of the Privacy Act. DHS received two public comments which did not address this system of records notice. DHS will not make any changes in response to the public comments.

DHS and USCIS are promulgating the regulation “Immigration Benefits Business Transformation, Increment I” (August 29, 2011, 76 FR 53764) to allow for USCIS to transition to an electronic environment. This regulation will assist USCIS in the transformation of its operations by removing references and processes that inhibit the use of electronic systems or constrain USCIS's ability to respond to changing workloads, priorities, or statutory requirements.

DHS/USCIS is creating a new electronic environment known as the Electronic Immigration System (USCIS ELIS). USCIS ELIS allows individuals requesting a USCIS benefit to register online and submit certain benefit requests through the online system. This system will improve customer service; increase efficiency for processing benefits; better identify potential national security concerns, criminality, and fraud; and create improved access controls and better auditing capabilities.

Applicants and petitioners (Applicants); co-applicants, beneficiaries, derivatives, dependents, or other persons on whose behalf a benefit request is made or whose immigration status may be derived because of a relationship to an Applicant (Co-Applicants); and their attorneys and representatives accredited by the Board of Immigration Appeals (Representatives) may create individualized online accounts. These online accounts help Applicants and their Representatives file for benefits, track the status of open benefit requests, schedule appointments, change their addresses and contact information, and receive notices and notifications regarding their particular cases. Through USCIS ELIS, individuals may submit evidence electronically. Once an individual provides biographic information for one benefit request, USCIS ELIS uses that information to pre-populate any future benefit requests by the same individual. This eases the burden on an individual so he or she does not have to repeatedly type in the same information and also reduces the number of possible errors.

USCIS is publishing three System of Records Notices (SORNs) to cover the following three distinct processes of this new electronic environment and the privacy and security protections incorporated into USCIS ELIS:

1. Temporary Accounts and Draft Benefit Requests: The Electronic Immigration System-1 Temporary Accounts and Draft Benefit Requests SORN (DHS/USCIS-014) addresses temporary data provided by Applicants or Representatives. This temporary data includes temporary accounts for first-time Applicants and draft benefit request data from first-time Applicants, Applicants with permanent accounts, and Representatives. Applicants first interact with USCIS ELIS by creating a temporary account, setting notification preferences, and drafting the first benefit request. If a first-time Applicant does not begin drafting a benefit request within 30 days of opening the temporary account, USCIS ELIS deletes the temporary account. If he or she does not submit the benefit request within 30 days of starting a draft benefit request, USCIS ELIS deletes the temporary account and all draft benefit request data. If a first-time Applicant submits the benefit request within 30 days, USCIS ELIS automatically changes the status of the account from temporary to permanent. Applicants with permanent USCIS ELIS accounts or Representatives may also draft benefit requests. USCIS ELIS deletes all draft benefit requests if they are not submitted within 30 days of initiation.

2. Account and Case Management: The Electronic Immigration System-2 Account and Case Management SORN (DHS/USCIS-015) addresses the activities undertaken by USCIS after Applicants or Representatives submit a benefit request. USCIS ELIS uses information provided on initial and subsequent benefit requests and subsequent collections through the Account and Case Management process to create or update USCIS ELIS accounts; collect any missing information; manage workflow; assist USCIS adjudicators as they make a benefit determination; and provide a repository of data to assist with future benefit requests. In addition, USCIS ELIS processes and tracks all actions related to the case, including scheduling appointments and issuing decision notices and/or proofs of benefit.

3. Automated Background Functions: The Electronic Immigration System-3 Automated Background Functions SORN (DHS/USCIS-016) addresses the actions USCIS ELIS takes to detect duplicate and related accounts and identify potential national security concerns, criminality, and fraud to ensure that serious or complex cases receive additional scrutiny.

This SORN addresses the USCIS ELIS account and case management process for applicants. Information for Electronic Immigration System-2 Account and Case Management (USCIS ELIS Account and Case Management) is derived from multiple sources. The main source of information is the benefit request formally submitted by the Applicant or Representative (see Electronic Immigration System-1 Temporary Accounts and Draft Benefits Requests SORN). Upon the formal submission of a benefit request to USCIS, this information will no longer be considered temporary and is subject to the retention schedules provided for in this SORN.

DHS is revising the list of legacy forms that will be incorporated into USCIS ELIS. Additional forms from which information will be collected will be posted to the USCIS ELIS Web site as the system develops. New categories of records collected on this revised list of forms include immigration history (citizenship/naturalization certificate number, removals, statuses, explanations, etc.), appeals or motions to reopen or reconsider decisions, U.S. State Department-Issued Personal Identification Number (PID), vaccinations, and medical referrals. In the first release of USCIS ELIS, USCIS collects information from the following updated list of forms:

• I-90—Application to Replace Permanent Residence Card (1615-0082), 08/31/12;

• I-102—Application for Replacement/Initial Nonimmigrant Departure Document (1615-0079), 08/31/12;

• I-130—Petition for Alien Relative (1615-0012), 01/31/12 (as evidence);

• I-131—Application for Travel Document (1615-0013), 03/31/12;

• I-134—Affidavit of Support (1615-0014), 05/31/12 (as evidence);

• I-290B—Notice of Appeal or Motion (91615-0095), 05/31/12;

• I-508/I-508F—Waiver of Rights, Privileges, Exemptions, and Immunities (1615-0025), 11/30/11;

• I-539—Application to Extend/Change Nonimmigrant Status (1615-0003), 02/29/12;

• I-539—Application to Extend/Change Nonimmigrant Status (On-Line Application) (Pending);

• I-566—Interagency Record of Request—A, G or NATO Dependent Employment Authorization or Change/Adjustment to/from A, G or NATO Status (1615-0027), 01/31/11(as evidence);

• I-601—Application for Waiver of Grounds of Inadmissibility (1615-0029), 06/30/12;

• I-693—Report of Medical Examination and Vaccination Record (1615-0033), 10/31/11;

• I-765—Application for Employment Authorization (1615-0040), 09/30/11;

• I-821—Application for Temporary Protected Status (1615-0043), 10/31/13;

• I-912—Request for Fee Waiver (1615-0116), 10/31/12;

• AR-11—Alien Change of Address Card System (1615-0007), 09/30/11; and

• G-28 Notice of Entry of Appearance as Attorney or Accredited Representative (1615-0105), 04/30/12.

The information collected throughout the USCIS ELIS Account and Case Management process is necessary to conduct an accurate and thorough adjudication of a request for immigration benefits. USCIS ELIS will use information from an Applicant's benefit request; account updates; and/or responses to a request for evidence; as well as information obtained during an interview and/or a biometrics collection at an Application Support Center. The information provided by the Applicant or his or her Representative will be used to create or update USCIS ELIS accounts; gather any missing information; manage workflow; generate reports; assist USCIS in making a benefit determination; and provide a repository of data to assist with future benefit requests. Pursuant to 8 CFR 103.2 (a)(3), Co-Applicants may not access, modify, or participate in benefit requests submitted by the Applicant. However, Co-Applicants may create their own USCIS ELIS accounts as Applicants and submit their own benefit requests. USCIS personnel may input information as they process a case, including information from commercial sources, like LexisNexis or Dun and Bradstreet, to verify information provided by an Applicant or Co-Applicant in support of a request for a benefit. The USCIS ELIS Account and Case Management process will be used to process and track all actions related to the case, including scheduling appointments and issuing decision notices and/or proofs of benefit. USCIS ELIS will generate notices and notifications that will be available to individuals online, via email, text message, or postal mail. These notices will also be stored in the Applicant's USCIS ELIS account.

Results from Electronic Immigration System-3 Automated Background Functions (USCIS ELIS Automated Background Functions) will also be stored in the individual's USCIS ELIS account and/or case. This includes information from other USCIS, DHS, and federal government systems to confirm identity, determine eligibility, and perform background checks. USCIS ELIS Account and Case Management may store information from DHS systems including: DHS/USCIS-001—Alien File, Index, and National File Tracking System of Records; DHS/USCIS-007—Benefits Information System (BIS); DHS/USCIS/010—Asylum Information and Pre-Screening; DHS/USCIS-006—Fraud Detection and National Security Data System (FDNS-DS); DHS/CBP-011—U.S. Customs and Border Protection TECS; DHS/ICE-001—Student and Exchange Visitor Information System (SEVIS); DHS/ICE-011—Immigration Enforcement Operational Records System (ENFORCE); DHS/USVISIT-001—Arrival and Departure Information System (ADIS); and DHS/USVISIT-0012—DHS Automated Biometric Identification System (IDENT). Furthermore, USCIS ELIS Account and Case Management may store information from systems outside of DHS, including: Department of State Consular Consolidated Database (CCD); JUSTICE/EOIR-001—Records and Management Information System; JUSTICE/FBI-002—FBI Central Records System; JUSTICE/FBI-009—Fingerprint Identification Records System (FIRS); and TREASURY/FMS-017—Collections Records—Treasury/Financial Management Service.

To protect Applicant, Co-Applicant, and Representative information, USCIS ELIS will employ role-based access controls to ensure internal users of the system do not have access to information beyond the functions of their employment. USCIS ELIS will also maintain audit logs of account access information by recording user identification and the date and time of access. Case and account histories are kept in order to track who created, deleted, or edited a record and when the change was made.

USCIS collects, uses, and maintains account and case management information pursuant to Sections 103 and 290 of the Immigration and Nationality Act (INA), as amended (8 U.S.C. 1103 and 1360), and the regulations issued pursuant thereto; and Section 451 of the Homeland Security Act of 2002 (Pub. L. 107-296).

Consistent with DHS's information sharing mission, information stored in the Electronic Immigration Services-2 Account and Case Management SORN may be shared with other DHS components, as well as appropriate federal, state, local, tribal, territorial, foreign, or international government agencies. This sharing will only take place after DHS determines that the receiving component or agency has a need-to-know the information to carry out national security, law enforcement, immigration, intelligence, or other functions consistent with the routine uses set forth in this system of records notice. USCIS provides information related to the immigration status of persons to employers participating in the USCIS E-Verify program (see DHS/USCIS-011 E-Verify Program SORN). In addition, USCIS provides the immigration status of persons applying for benefits from a government agency through the USCIS Systematic Alien Verification for Entitlements (SAVE) program (see DHS/USCIS-004 Systematic Alien Verification for Entitlements Program SORN).

DHS is issuing a Final Rule to exempt this system of records from certain provisions of the Privacy Act pursuant to 5 U.S.C. 552a(k)(2), elsewhere in the Federal Register. Additionally, many of the functions in this system require retrieving records from law enforcement systems. Where a record received from another system has been exempted in that source system under 5 U.S.C. 552a(j)(2), DHS will claim the same exemptions for those records that are claimed for the original primary systems of records from which they originated and claims any additional exemptions in accordance with this rule. This updated system will be included in DHS's inventory of record systems.

II. Privacy Act

The Privacy Act embodies fair information practice principles in a statutory framework governing the means by which the U.S. Government collects, maintains, uses, and disseminates individuals' records. The Privacy Act applies to information that is maintained in a “system of records.” A “system of records” is a group of any records under the control of an agency for which information is retrieved by the name of an individual or by some identifying number, symbol, or other identifying particular assigned to the individual. In the Privacy Act, an individual is defined to encompass U.S. citizens and lawful permanent residents. As a matter of policy, DHS extends administrative Privacy Act protections to all individuals where systems of records maintain information on U.S. citizens, lawful permanent residents, and visitors.

Below is the description of the DHS/USCIS-015 Electronic Immigration System-2 Account and Case Management System of Records.

In accordance with 5 U.S.C. 552a(r), DHS has provided a report of this system of records to the Office of Management and Budget and to Congress.

System of Records

DHS/USCIS-015

System name:

DHS/USCIS-015 Electronic Immigration System-2 Account and Case Management System of Records

Security classification:

Unclassified, sensitive, for official use only, law enforcement sensitive

System location:

Records are maintained at the USCIS Headquarters in Washington, DC and field offices.

Categories of individuals covered by the system:

USCIS ELIS Account and Case Management stores and/or uses information about individuals who receive or petition for benefits under the Immigration and Nationality Act, as amended. These individuals include: Applicants and petitioners (Applicants); co-applicants, beneficiaries, derivatives, dependents, or other persons on whose behalf a benefit request is made or whose immigration status may be derived because of a relationship to an Applicant (Co-Applicants); attorneys and representatives accredited by the Board of Immigration Appeals (Representatives); and individuals that assist in the preparation of the benefit request.

Categories of records in the system:

Information about Applicants and Co-Applicants may include:

• USCIS ELIS account number

• Alien Registration Number(s)

• Family Name

• Given Name

• Middle Name

• Alias(es)

• Physical and mailing address(es):

○ Address

○ Unit Number

○ City

○ State

○ ZIP Code

○ Postal Code

○ Province

○ Country

• Date Of Birth

• Deceased Date

• Nationality

• Country of Citizenship

• City Of Birth

• State Of Birth

• Province Of Birth

• Country Of Birth

• Gender

• Marital Status

• Military Status

• Preferred Contact Method

• Phone Number

• Phone Extension

• Email Address

• Password

• Challenge questions and answers

• Immigration status

• Government-issued identification (e.g. passport, driver's license):

○ Document type

○ Issuing organization

○ Document number

○ Expiration date

• Benefit requested

• Signature (electronic or scanned physical signature)

• Pay.gov payment tracking number

• IP Address and browser information

• USCIS ELIS case submission confirmation number

Benefit-specific eligibility information (if applicable) may include:

• U.S. State Department-Issued Personal Identification Number (PID)

• Arrival/Departure Information

• Immigration history (citizenship/naturalization certificate number, removals, explanations, etc.)

• Family Relationships (e.g., Parent, Spouse, Sibling, Child, Other Dependents, etc., as well as polygamy, custody, guardianship, and other relationship practices)

• USCIS Receipt/Case Number

• Personal Background Information (e.g., involvement with national security threats, Communist party, torture, genocide, killing, injuring, forced sexual contact, limiting or denying others religious beliefs; service in military or other armed groups; work in penal or detention systems, weapons distribution, combat training, etc.)

• Health Information (e.g., vaccinations, referrals, communicable disease, physical or mental disorder, prostitution, drug abuse, etc.)

• Education History

• Work History

• Financial Information (income, expenses, scholarships, savings, assets, property, financial support, supporter information, life insurance, debts, encumbrances, etc.)

• Social Security Number (SSN), if applicable

• Supporting documentation as necessary (i.e. birth certificate, appeals or motions to reopen or reconsider decisions, etc.)

• Physical Description

• Fingerprint(s)

• Photographs

• FBI Identification Number

• Fingerprint Identification Number

• Criminal Records

• Criminal and National Security background check information

Preparer information includes:

• Name

• Organization

• Physical and Mailing Addresses

• Email Address

• Phone and Fax Numbers

• Paid/Not Paid

• Relationship to Applicant

Representative information includes:

• Name

• Law Firm/Recognized Organization

• Physical and Mailing Addresses

• Phone and Fax Numbers

• Email Address

• Attorney Bar Card Number or Equivalent

• BAR Membership

• Accreditation Date

• BIA Representative Accreditation Expiration Date

• Law Practice Restriction Explanation

Authority for maintenance of the system:

Authority for maintaining this system is in Sections 103 and 290 of the INA, as amended (8 U.S.C. 1103 and 1360), and the regulations issued pursuant thereto; and Section 451 of the Homeland Security Act of 2002 (Pub. L. 107-296).

Purpose(s):

The purpose of this system is to manage USCIS ELIS accounts; gather information related to a benefit request; manage workflow; generate reports; assist USCIS in making a benefit determination; and provide a repository of data to assist with future benefit requests. In addition, the USCIS ELIS Account and Case Management process will be used to process and track all actions related to the case, including scheduling appointments and issuing decision notices and/or proofs of benefit.

Routine uses of records maintained in the system, including categories of users and the purposes of such uses:

In addition to those disclosures generally permitted under 5 U.S.C. 552a(b) of the Privacy Act, all or a portion of the records or information contained in this system may be disclosed outside DHS as a routine use pursuant to 5 U.S.C. 552a(b)(3) as follows:

A. To the Department of Justice (DOJ), including U.S. Attorney Offices, or other federal agencies conducting litigation or in proceedings before any court, adjudicative or administrative body, when it is necessary to the litigation and one of the following is a party to the litigation or has an interest in such litigation:

1. DHS or any component thereof;

2. any employee of DHS in his/her official capacity;

3. any employee of DHS in his/her individual capacity where DOJ or DHS has agreed to represent the employee; or

4. If the U.S. or any agency thereof, is a party to the litigation or has an interest in such litigation, and DHS determines that the records are both relevant and necessary to the litigation and the use of such records is compatible with the purpose for which DHS collected the records.

B. To a congressional office from the record of an individual in response to an inquiry from that congressional office made at the request of the individual to whom the record pertains.

C. To the National Archives and Records Administration (NARA) or other federal government agencies pursuant to records management inspections being conducted under the authority of 44 U.S.C. 2904 and 2906.

D. To an agency, organization, or individual for the purpose of performing audit or oversight operations as authorized by law, but only such information as is necessary and relevant to such audit or oversight function.

E. To appropriate agencies, entities, and persons when:

1. DHS suspects or has confirmed that the security or confidentiality of information in the system of records has been compromised;

2. DHS has determined that as a result of the suspected or confirmed compromise there is a risk of harm to economic or property interests, identity theft or fraud, harm to the security or integrity of this system or other systems or programs (whether maintained by DHS or another agency or entity), or harm to the individual that relies upon the compromised information; and

3. The disclosure made to such agencies, entities, and persons is reasonably necessary to assist in connection with DHS's efforts to respond to the suspected or confirmed compromise and prevent, minimize, or remedy such harm.

F. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

G. To an appropriate federal, state, tribal, local, international, or foreign law enforcement agency or other appropriate authority charged with investigating or prosecuting a violation or enforcing or implementing a law, rule, regulation, or order, where a record, either on its face or in conjunction with other information, indicates a violation or potential violation of law, which includes criminal, civil, or regulatory violations and such disclosure is proper and consistent with the official duties of the person making the disclosure.

H. To clerks and judges of courts exercising naturalization jurisdiction for the purpose of filing petitions for naturalization and to enable such courts to determine eligibility for naturalization or grounds for revocation of naturalization.

I. To courts, magistrates, administrative tribunals, opposing counsel, parties, and witnesses, in the course of immigration, civil, or criminal proceedings before a court or adjudicative body when:

1. DHS or any component thereof; or

2. Any employee of DHS in his or her official capacity; or

3. Any employee of DHS in his or her individual capacity where the agency has agreed to represent the employee; or

4. The United States, where DHS determines that litigation is likely to affect DHS or any of its components;

Is a party to litigation or has an interest in such litigation, and DHS determines that use of such records is relevant and necessary to the litigation, and that in each case, DHS determines that disclosure of the information to the recipient is a use of the information that is compatible with the purpose for which it was collected.

J. To an attorney or representative (as defined in 8 CFR 1.1(j)) who is acting on behalf of an individual covered by this system of records in connection with any proceeding before USCIS, ICE, or CBP or the DOJ Executive Office for Immigration Review (EOIR).

K. To DOJ (including United States Attorneys' Offices) or other federal agencies conducting litigation or in proceedings before any court, adjudicative or administrative body, where necessary to assist in the development of such agency's legal and/or policy position.

L. To the Department of State (DOS) in the processing of petitions or applications for benefits under the Immigration and Nationality Act, and all other immigration and nationality laws including treaties and reciprocal agreements; or when DOS requires information to consider and/or provide an informed response to a request for information from a foreign, international, or intergovernmental agency, authority, or organization about an alien or an enforcement operation with transnational implications.

M. To appropriate federal, state, local, tribal, territorial, or foreign governments, as well as to other individuals and organizations during the course of an investigation by DHS or the processing of a matter under DHS's jurisdiction, or during a proceeding within the purview of the immigration and nationality laws, when DHS deems that such disclosure is necessary to carry out its functions and statutory mandates to elicit information required by DHS to carry out its functions and statutory mandates.

N. To an appropriate federal, state, tribal, territorial, local, or foreign government agency or organization, or international organization, lawfully engaged in collecting law enforcement intelligence, whether civil or criminal, or charged with investigating, prosecuting, enforcing or implementing civil or criminal laws, related rules, regulations or orders, to enable these entities to carry out their law enforcement responsibilities, including the collection of law enforcement intelligence, and the disclosure is appropriate to the proper performance of the official duties of the person receiving the information.

O. To an appropriate federal, state, local, tribal, territorial, foreign, or international agency, if the information is relevant and necessary to a requesting agency's decision concerning the hiring or retention of an individual, or issuance of a security clearance, license, contract, grant, or other benefit, or if the information is relevant and necessary to a DHS decision concerning the hiring or retention of an employee, the issuance of a security clearance, the reporting of an investigation of an employee, the letting of a contract, or the issuance of a license, grant, or other benefit.

P. To an individual's current employer to the extent necessary to determine employment eligibility or to a prospective employer or government agency to verify an individual is eligible for a government-issued credential that is a condition of employment.

Q. To a former employee of DHS, in accordance with applicable regulations, for purposes of: Responding to an official inquiry by a federal, state, or local government entity or professional licensing authority; or facilitating communications with a former employee that may be necessary for personnel-related or other official purposes where the Department requires information or consultation assistance from the former employee regarding a matter within that person's former area of responsibility.

R. To the Office of Management and Budget (OMB) in connection with the review of private relief legislation as set forth in OMB Circular No. A-19 at any stage of the legislative coordination and clearance process as set forth in the Circular.

S. To the U.S. Senate Committee on the Judiciary or the U.S. House of Representatives Committee on the Judiciary when necessary to inform members of Congress about an alien who is being considered for private immigration relief.

T. To a federal, state, tribal, or local government agency and/or to domestic courts to assist such agencies in collecting the repayment of loans, or fraudulently or erroneously secured benefits, grants, or other debts owed to them or to the U.S. Government, or to obtain information that may assist DHS in collecting debts owed to the U.S. Government;

U. To an individual or entity seeking to post or arrange, or who has already posted or arranged, an immigration bond for an alien to aid the individual or entity in (1) identifying the location of the alien, or (2) posting the bond, obtaining payments related to the bond, or conducting other administrative or financial management activities related to the bond.

V. To a coroner for purposes of affirmatively identifying a deceased individual (whether or not such individual is deceased as a result of a crime).

W. Consistent with the requirements of the INA, to the Department of Health and Human Services (HHS), the Centers for Disease Control and Prevention (CDC), or to any state or local health authorities, to:

1. Provide proper medical oversight of DHS-designated civil surgeons who perform medical examinations of both arriving aliens and of those requesting status as a lawful permanent resident; and

2. Ensure that all health issues potentially affecting public health and safety in the United States are being or have been adequately addressed.

X. To a federal, state, local, tribal, or territorial government agency seeking to verify or ascertain the citizenship or immigration status of any individual within the jurisdiction of the agency for any purpose authorized by law.

Y. To the Social Security Administration (SSA) for the purpose of issuing a SSN and Social Security card to an alien who has made a request for a SSN as part of the immigration process and in accordance with any related agreements in effect between the SSA, DHS, and DOS entered into pursuant to 20 CFR 422.103(b)(3); 422.103(c); and 422.106(a), or other relevant laws and regulations.

Z. To federal and foreign government intelligence or counterterrorism agencies or components where DHS becomes aware of an indication of a threat or potential threat to national or international security, or where such use is to conduct national intelligence and security investigations or assist in anti-terrorism efforts.

AA. To third parties to facilitate placement or release of an individual (e.g., at a group home, homeless shelter, etc.) who has been or is about to be released from DHS custody but only such information that is relevant and necessary to arrange housing or continuing medical care for the individual.

BB. To foreign governments for the purpose of coordinating and conducting the removal of individuals to other nations under the INA; and to international, foreign, and intergovernmental agencies, authorities, and organizations in accordance with law and formal or informal international arrangements.

CC. To a federal, state, local, territorial, tribal, international, or foreign criminal, civil, or regulatory law enforcement authority when the information is necessary for collaboration, coordination, and de-confliction of investigative matters, prosecutions, and/or other law enforcement actions to avoid duplicative or disruptive efforts and to ensure the safety of law enforcement officers who may be working on related law enforcement matters.

DD. To the DOJ Federal Bureau of Prisons and other federal, state, local, territorial, tribal, and foreign law enforcement or custodial agencies for the purpose of placing an immigration detainer on an individual in that agency's custody, or to facilitate the transfer of custody of an individual from DHS to the other agency. This will include the transfer of information about unaccompanied minor children to HHS to facilitate the custodial transfer of such children from DHS to HHS.

EE. To federal, state, local, tribal, territorial, or foreign governmental or quasi-governmental agencies or courts to confirm the location, custodial status, removal, or voluntary departure of an alien from the United States, in order to facilitate the recipients' exercise of responsibilities pertaining to the custody, care, or legal rights (including issuance of a U.S. passport) of the removed individual's minor children, or the adjudication or collection of child support payments or other debts owed by the removed individual.

FF. To a federal, state, tribal, territorial, local, international, or foreign government agency or entity for the purpose of consulting with that agency or entity: (1) To assist in making a determination regarding redress for an individual in connection with the operations of a DHS component or program; (2) for the purpose of verifying the identity of an individual seeking redress in connection with the operations of a DHS component or program; or (3) for the purpose of verifying the accuracy of information submitted by an individual who has requested such redress on behalf of another individual.

GG. To the Department of Treasury to process and resolve payment issues.

HH. To the news media and the public, with the approval of the Chief Privacy Officer in consultation with counsel, when there exists a legitimate public interest in the disclosure of the information or when disclosure is necessary to preserve confidence in the integrity of DHS or is necessary to demonstrate the accountability of DHS's officers, employees, or individuals covered by the system, except to the extent it is determined that release of the specific information in the context of a particular case would constitute an unwarranted invasion of personal privacy.

Disclosure to consumer reporting agencies:

None.

Policies and practices for storing, retrieving, accessing, retaining, and disposing of records in the system:

Storage:

Records in this system are stored electronically or on paper in secure facilities in a locked drawer behind a locked door. The records are stored on magnetic disc, tape, digital media, and CD-ROM.

Retrievability:

Records may be retrieved by any of the data elements listed above or a combination thereof.

Safeguards:

Records in this system are safeguarded in accordance with applicable rules and policies, including all applicable DHS automated systems security and access policies. Strict controls have been imposed to minimize the risk of compromising the information that is being stored. Access to the computer system containing the records in this system is limited to those individuals who have a need-to-know the information for the performance of their official duties and who have appropriate clearances or permissions.

Retention and disposal:

USCIS is currently working with the National Archives and Records Administration (NARA) to establish and publish the proposed USCIS ELIS records retention schedules. USCIS currently plans to retain all account information and supporting evidence for 100 years after the account holder's date of birth, or 15 years from last action, whichever is later. Permanent accounts (e.g. for applicants who currently have A-files) and related case snapshots and supporting evidence are permanent and will be transferred to the custody of the NARA 100 years after the individual's date of birth. Non-immigrant case information and supporting evidence will be stored for 15 years from last action.

U.S. citizen accounts and cases will be archived internally after five years. All accounts and cases will be put in an inactive status 15 years after last action.

Records that are linked to national security, law enforcement, or fraud investigations or cases will remain accessible for the life of the related activity, to the extent retention for such purposes exceeds the normal retention period for such data in USCIS ELIS. USCIS is reviewing its needs for the information as it transitions to a fully electronic environment and may amend its retention plans and schedules as needed.

USCIS proposes that, in compliance with NARA General Records Schedule 24, section 6, “User Identification, Profiles, Authorizations, and Password Files,” internal USCIS personnel accounts will be destroyed or deleted six years after the account is terminated, or when no longer needed for investigative or security purposes, whichever is later.

System Manager and address:

The DHS system manager is the Chief, Records Division, U.S. Citizenship and Immigration Services, Department of Homeland Security, U.S. Citizenship and Immigration Services, 20 Massachusetts Avenue NW., Washington, DC 20529.

Notification procedure:

Applicants may access and amend this information by logging in to their USCIS ELIS account. Pursuant to 8 CFR 103.2(a)(3), Co-Applicants may access their information by logging in to USCIS ELIS after the benefit request has been approved or denied. Further, individuals seeking notification of and access to any record contained in this system of records, or seeking to contest its content, may submit a request in writing to the National Records Center, FOIA/PA Office, P.O. Box 648010, Lee's Summit, MO 64064-8010. Specific FOIA contact information can be found at http://www.dhs.gov/foia under “Contacts.” If an individual believes more than one component maintains Privacy Act records concerning him or her, the individual may submit the request to the Chief Privacy Officer and Chief Freedom of Information Act Officer, Department of Homeland Security, 245 Murray Drive SW., Building 410, STOP-0655, Washington, DC 20528.

When seeking records about yourself from this system of records or any other Departmental system of records your request must conform with the Privacy Act regulations set forth in 6 CFR part 5. You must first verify your identity, meaning that you must provide your full name, current address and date and place of birth. You must sign your request and your signature must either be notarized or submitted under 28 U.S.C. 1746, a law that permits statements to be made under penalty of perjury as a substitute for notarization. While no specific form is required, you may obtain forms for this purpose from the Chief Privacy Officer and Chief Freedom of Information Act Officer, http://www.dhs.gov or 1-(866) 431-0486. In addition you should:

• Provide an explanation of why you believe the Department would have information on you;

• Identify which component(s) of the Department you believe may have the information about you;

• Specify when you believe the records would have been created;

• Provide any other information that will help the FOIA staff determine which DHS component agency may have responsive records; and

• If your request is seeking records pertaining to another living individual, you must include a statement from that individual certifying his/her agreement for you to access his/her records.

Without this bulleted information the component(s) may not be able to conduct an effective search and your request may be denied due to lack of specificity or lack of compliance with applicable regulations.

Record access procedures:

See “Notification procedure” above.

Contesting record procedures:

See “Notification procedure” above.

Record source categories:

Records are obtained from the Applicant or his or her Representative. USCIS personnel may input information as they process a case, including information from commercial sources, like LexisNexis or Dunn and Bradstreet, to verify whether an Applicant or Co-Applicant is eligible for the benefit requested. USCIS ELIS Account and Case Management will also store and use information from the following USCIS, DHS, and other federal agency systems of records:

• DHS/USCIS-001—Alien File, Index, and National File Tracking System of Records;

• DHS/USCIS-007—Benefits Information System (BIS);

• DHS/USCIS-010—Asylum Information and Pre-Screening;

• DHS/USCIS-006—Fraud Detection and National Security Data System (FDNS-DS);

• DHS/USCIS-014—Electronic Immigration System-1 Temporary Accounts and Draft Benefit Requests System of Records;

• DHS/USCIS-016—Electronic Immigration System-3 Automated Background Functions System of Records;

• DHS/CBP-011—U.S. Customs and Border Protection TECS;

• DHS/ICE-001—Student and Exchange Visitor Information System (SEVIS);

• DHS/ICE-011—Immigration Enforcement Operational Records System (ENFORCE);

• DHS/USVISIT-001—Arrival and Departure Information System (ADIS);

• DHS/USVISIT-0012—DHS Automated Biometric Identification System (IDENT);

• Department of State Consular Consolidated Database (CCD);

• JUSTICE/EOIR-001—Records and Management Information System;

• JUSTICE/FBI-002—FBI Central Records System;

• JUSTICE/FBI-009—Fingerprint Identification Records System (FIRS); and

• TREASURY/FMS-017—Collections Records—Treasury/Financial Management Service.

Exemptions claimed for the system:

The Secretary of Homeland Security has exempted this system from the following provisions of the Privacy Act pursuant to 5 U.S.C. 552a(k)(2): 5 U.S.C. 552a(c)(3); (d); (e)(1), (e)(4)(G), (e)(4)(H), (e)(4)(I); and (f). Additionally, many of the functions in this system require retrieving records from law enforcement systems. Where a record received from another system has been exempted in that source system under 5 U.S.C. 552a(j)(2), DHS will claim the same exemptions for those records that are claimed for the original primary systems of records from which they originated and claims any additional exemptions in accordance with this rule.

Dated: November 2, 2011.
Mary Ellen Callahan,
Chief Privacy Officer, Department of Homeland Security.

[FR Doc. 2011-29451 Filed 11-14-11; 8:45 am]

BILLING CODE 9111-97-P